DEPARTMENT OF DEFENSE

Department of the Air Force

[Solicitation Number: TBD, Classification Code: TBD, NAICS Code: TBD]

Synopsis: D—Request for Information for Rapid Delivery of Military Capabilities via Space; Notice Type: Sources Sought.

Closing Date: March 15, 2009.

SUMMARY: The purpose for this Request For Information (RFI) is to identify (1) near-term industry solutions that could provide the Department of Defense (DoD) the capability to rapidly deliver military capabilities via space, and (2) long-term advanced space transport concepts that could evolve from near-term capabilities. Interested sources should provide a white paper describing current space transport technologies and capabilities, and commercial visions for future capabilities that are projected to evolve from those current space transport technologies. The vision in the white paper should be tailored towards the interests of the U.S. Government that are outlined in the questions listed below.

In order to clarify the DoD's need in this area and to develop a technology assessment for these capabilities, the National Security Space Office (NSSO) and Headquarters, Air Force Security Forces Center (HQ AFSFC) are co-hosting a Technology Forum for the Rapid Delivery of Military Capabilities via Space on 24-26 Feb 2009 at Lackland Air Force Base, San Antonio, TX. This Technology Forum is open to all industry, U.S. Government, and military interested in assisting in the development of a technology assessment for this capability. This RFI is being released prior to the Technology Forum in order to help generate thought for discussion at the event. Responses are due 15 Mar 09, after the Technology Forum, so the combination of this solicitation and the events at the Technology Forum will help to refine responses.

The concept of Rapid Delivery of Military Capabilities via Space was based initially on the Marine Corps' Small Unit Space Transport and Insertion (SUSTAIN) concept which would provide the Joint Force Commander (JFC) the capacity to rapidly transport operationally relevant capabilities to any point on the globe, effectively instantaneously. The SUSTAIN capability spans the full spectrum of conflict, from strategic Special Forces employment to a full range of specialized manned and unmanned warfighting payloads. The formal need for a SUSTAIN capability is documented in the Marine Corps SUSTAIN Universal Need Statement dated 22 July 2002, and the USSOCOM Space Enabling Concept dated 25 March 2004.

RFI Requirements

The first section of this RFI seeks to identify information on existing commercial systems or low risk systems in development that could potentially apply to a DoD capability to rapidly transport militarily relevant capabilities through sub-orbital space to a remote location on short notice. This nearer-term capability could serve as the first phase of a spiral developmental effort. The following specific definitions are applicable to this first section of the RFI:

• The “transport altitude regime” is defined by upper and lower sub-orbital space boundaries, namely between an altitude above 50 nautical miles and an altitude below that which requires prior USSTRATCOM coordination.

• “Rapidly” is defined as two hours or less of flight time, preceded by a launch preparation period, with the combined total of flight time and preparation time not to exceed four hours.

• “Militarily relevant payloads” are defined as an Unmanned Aerial System (UAS) or an Unmanned Ground Vehicle (UGV), either alternative having a mass of 200 kilograms or less, a transport volume of 2 cubic meters or less, and either system must be fully operational upon delivery.

• The “target destination” is defined as any point within 5,000 Nautical miles of the launch site, including options to launch a UAS directly into target airspace at high altitude or land a UGV on the ground at a prepared or unprepared site.

• The delivery vehicle, whether a single stage vehicle or the upper stage of a multi-stage vehicle, must be recoverable and reusable.

With respect to the specific definitions above that are related to nearer-term technologies and capabilities, this RFI seeks answers to the following specific questions:

a. What plans would improve sub-orbital and/or orbital space transport capabilities in these areas: (1) Space-based capabilities; (2) Terrestrial capabilities; (3) Enabling capabilities; (4) Non-material aspects including policies, procedures, and operations concepts?

b. What technologies are needed to achieve, maintain, or improve sub-orbital and/or orbital space transport capabilities? What is the practical limit of these technologies?

c. What technologies are considered high payoff for future sub-orbital and/or orbital space transport capabilities, including those without current funding support or U.S. Government sponsorship?

d. To what extent should autonomy or automation be implemented in ground and sub-orbital and/or orbital space systems to support space as a transport medium?

e. What sub-orbital and/or orbital capabilities should the U.S. Government provide? Which commercial capabilities do you believe could enhance U.S. Government-provided sub-orbital and/or orbital space transport capabilities?

f. In order to achieve needed sub-orbital and/or orbital space transportation capabilities through the 2025 time frame, what international cooperation will be required?

g. What interrelationship is planned or desired with the U.S. Government through the 2025 time frame from a sub-orbital and/or orbital space transport perspective? What Position, Navigation, Timing (PNT) capabilities are expected from the U.S. Government?

h. What interest is there in providing selected sub-orbital and/or orbital space transport capabilities?

i. What interest is there in providing a full range of sub-orbital and/or orbital space transport services to the U.S. Government?

j. What analytical tools or simulations are recommend for assessing the performance, cost, and utility associated with sub-orbital and/or orbital space transport capabilities?

k. How do purchasers of sub-orbital and/or orbital space transport end-user equipment make their needs known to the provider?

l. In general, what are the most important attributes of sub-orbital and/or orbital space transport services (or combinations of services) for a consumer?

This second section of the RFI seeks to identify industry concepts that could lead to a future DoD capacity to rapidly transport a full spectrum of militarily relevant capabilities through sub-orbital and/or orbital space to any point globally on short notice. Such concepts could constitute advanced phases of the spiral developmental effort described above. Accordingly, information is solicited on the following advanced capabilities, capabilities that are formulated as questions for RFI responses:

a. Can capabilities be scaled up for the purpose of delivering unmanned payloads of up to 30,000 pounds suborbitally to any point on the globe, including the poles? If so, describe a notional spiral evolution to the future capability?

b. Can capabilities be scaled up for the purpose of delivering militarily relevant payloads to low earth orbit? If so, describe a notional spiral evolution to the future capability?

c. Can capabilities be integrated with Government Furnished Equipment (GFE) launch vehicles such as the Atlas, Delta, and future families of launch vehicles? If so, describe a notional spiral evolution to the future capability?

d. Can individual vehicle capabilities be man-rated to enable the insertion of a squad-sized, combat-equipped team into any global contingency? If so, describe a notional spiral evolution to the future capability?

e. Can capabilities evolve to a family of assault support vehicles capable of launch on demand and refueling-assisted transport and insertion of systems and forces? If so, describe a notional spiral evolution to the future capability?

f. Can capabilities be scaled up to permit the insertion of unmanned capabilities or manned teams that is still capable of self-extraction without refueling? If so, describe a notional spiral evolution to the future capability?

g. Can capabilities allow for a low earth orbit (LEO) loiter-like capability?

h. Can capabilities be increased into an on-orbit support infrastructure for space-based support, allowing for the timed injection of into any contingency from orbit? If so, describe a notional spiral evolution to the future capability?

i. Can capabilities allow for an entire mission cycle from launch, through transit, insertion, terrestrial or space execution, extraction, and finally egress to any global point of origin, without the need for refueling?

RFI Purpose and Limitations

The U.S. Government is aware of and understands the tactical, operational, and strategic opportunities that space can provide the DoD from the perspective of speed of delivery and global reach. The Government's intention is to better understand the current, state-of-the-art capabilities and future technological projections to determine a technological assessment. Industry feedback is vitally important and the Government will be receptive to any and all ideas received from industry. This RFI is an expression of the Government's interest only and does not obligate the Government to pay for the requested information nor respond to any submissions. Responses to this notice are not offers and cannot be accepted by the Government to form a binding contract. Proprietary information is not being solicited; however, if it is submitted, it should be properly marked.

Please limit formal white paper submission to no more than ten (10) pages, not including the cover letter or any attachments. In addition, it may include up to five attachments that consist of briefing slides, suggested contract language, current plans, or standard operating procedures. Electronic submissions are strongly encouraged. All items must be compatible with Microsoft Office or Adobe PDF format and free of all computer viruses.

Technical questions and industry responses shall be submitted via email to: LtCol Paul Damphousse, paul.damphousse@osd.mil.

Responses must be received no later than 2 p.m. Eastern Standard Time, on March 15, 2009.

All material submitted in response to this RFI must be unclassified and, if proprietary, marked appropriately.

Point of Contact: LtCol Paul Damphousse, paul.damphousse@osd.mil, or (571) 432-1411.

This Is a Request for Information (RFI) Only

This RFI is issued as Market Research, solely for information and planning purposes. It shall not be considered as an Invitation for Bid (IFB), Request for Quotation (RFQ), Request for Proposal (RFP), or as an obligation on the part of the Government to acquire any products or services. Any response to this synopsis will be treated as information only. No entitlement to payment of direct or indirect costs or charges by the Government will arise as a result of contractor submission of responses to this synopsis or the Government for use of such information. The information provided may be used by the National Security Space Office in developing a strategy and in a Statement of Work/Statement of Objectives and Performance specifications for any future study. Not responding to this RFI does not preclude participation in any future RFP, if issued. If a solicitation is issued, it will be synopsized on the Federal Business Opportunities (FedBizOpps) Web site. It is the responsibility of any potential offeror to monitor this site for additional information pertaining to this requirement.

Bao-Anh Trinh,
Air Force Federal Register Liaison Officer.

[FR Doc. E9-2716 Filed 2-9-09; 8:45 am]

BILLING CODE 5001-05-P